ENVIRONMENTAL PROTECTION AGENCY

[ER-FRL-9041-6]

Environmental Impact Statements; Notice of Availability

Responsible Agency: Office of Federal Activities, General Information (202) 564-5632 or https://www.epa.gov/nepa/.

Weekly receipt of Environmental Impact Statements

Filed 09/24/2018 Through 09/28/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180227, Draft, USACE, TX, Lake Ralph Hall Regional Water Supply Reservoir Project, Comment Period Ends: 11/21/2018, Contact: Chandler J. Peter 817 886 1731

EIS No. 20180228, Draft, USFS, UT, Greater Sage-grouse Proposed Land Management Plan Amendments (LMPA) and Draft Environmental Impact Statement (DEIS) for the Intermountain and Rocky Mountain Regions, Comment Period Ends: 01/03/2019, Contact: John Shivik 801-625-5667

EIS No. 20180229, Draft, FERC, TX, Port Arthur Liquefaction Project, Texas Connector Project, and Louisiana Connector Project, Comment Period Ends: 11/19/2018, Contact: Office of External Affairs 866-208-3372

EIS No. 20180230, Final Supplement, DOE, CA, Supplemental to the Energia Sierra Juarez U.S. Transmission Line Project, Review Period Ends: 11/05/2018, Contact: Julie Ann Smith, Ph.D. 202-586-7668

EIS No. 20180231, Draft, NMFS, WA, Changes to Groundfish Essential Fish Habitat Conservation Areas and Boundaries of the Trawl Rockfish Conservation Area, Comment Period Ends: 11/19/2018, Contact: Gretchen Hanshew 206-526-6147

EIS No. 20180232, Draft, BLM, WA, San Juan Islands National Monument Draft Resource Management Plan and Environmental Impact Statement, Comment Period Ends: 01/03/2019, Contact: Lauren Pidot 503-808-6297

Dated: October 1, 2018.
Robert Tomiak,
Director, Office of Federal Activities.

[FR Doc. 2018-21685 Filed 10-4-18; 8:45 am]

BILLING CODE 6560-50-P